FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 003725F.

Name: Aim Worldwide Shipping, Inc.

Address: 80 Eighth Ave., Ste. 301, New York, NY 10011.

Date Revoked: July 31, 2009.

Reason: Surrendered license voluntarily.

License Number: 001175F.

Name: Benson, Solomon J. dba Benson's Forwarding Service.

Address: 2801 NW. 78th Ave., Ste. 208, Miami, FL 33122.

Date Revoked: July 16, 2009.

Reason: Failed to maintain a valid bond.

License Number: 009692N.

Name: ETS Express, Inc.

Address: 15333 JFK Blvd., Ste. 700, Houston, TX 77346.

Date Revoked: July 18, 2009.

Reason: Failed to maintain a valid bond.

License Number: 014744N.

Name: Unique Overseas, Inc.

Address: 3 Birch Place, Pine Brook, NJ 07058.

Date Revoked: July 20, 2009.

Reason: Surrendered license voluntarily.

License Number: 021123NF.

Name: Waterways Logistics (USA), Inc.

Address: 100 Middlesex Ave., Ste. A, Carteret, NJ 07008-3499.

Date Revoked: July 19, 2009.

Reason: Failed to maintain valid bonds.

Sandra L. Kusumoto,
Director, Bureau of Certification and Licensing.

[FR Doc. E9-18883 Filed 8-5-09; 8:45 am]

BILLING CODE P